DEPARTMENT OF JUSTICE

Drug Enforcement Administration

Importer of Controlled Substances; Notice of Registration; R & D Systems, Inc.

By Notice dated August 17, 2012, and published in the Federal Register on August 20, 2012, 77 FR 50162, R & D Systems, Inc., 614 McKinley Place NE., Minneapolis, Minnesota 55413, made application to the Drug Enforcement Administration (DEA) to be registered as an importer of the following basic classes of controlled substances:

Drug | Schedule
1-Pentyl-3-(1-naphthoyl)indole (7118) | I
5-(1,1-Dimethylheptyl)-2-[(1R,3S)-3- hydroxycyclohexyl]- phenol (7297) | I
Marihuana (7360) | I
Tetrahydrocannabinols (7370) | I
4-Bromo-2,5-dimethoxyamphetamine (7391) | I
3,4-Methylenedioxymethamphetamine (7405) | I
Dimethyltryptamine (7435) | I
Amphetamine (1100) | II
Methylphenidate (1724) | II
Phencyclidine (7471) | II
Cocaine (9041) | II
Oxycodone (9143) | II
Thebaine (9333) | II
Fentanyl (9801) | II

The company plans to import the listed controlled substances in dosage form to distribute to researchers.

In reference to drug codes 7360 and 7370, the company plans to import a synthetic cannabidiol and a synthetic Tetrahydrocannabinol. No other activity for this drug code is authorized for this registration.

No comments or objections have been received. DEA has considered the factors in 21 U.S.C. 823(a) and 952(a), and determined that the registration of R & D Systems, Inc., to import the basic classes of controlled substances is consistent with the public interest, and with United States obligations under international treaties, conventions, or protocols in effect on May 1, 1971, at this time. DEA has investigated R & D Systems, Inc., to ensure that the company's registration is consistent with the public interest. The investigation has included inspection and testing of the company's physical security systems, verification of the company's compliance with state and local laws, and a review of the company's background and history.

Therefore, pursuant to 21 U.S.C. 952(a) and 958(a), and in accordance with 21 CFR § 1301.34, the above named company is granted registration as an importer of the basic classes of controlled substances listed.

Dated: January 15, 2013.
Joseph T. Rannazzisi,
Deputy Assistant Administrator, Office of Diversion Control, Drug Enforcement Administration.

[FR Doc. 2013-01554 Filed 1-24-13; 8:45 am]

BILLING CODE 4410-09-P